ENVIRONMENTAL PROTECTION AGENCY

40 CFR Part 300

[FRL-6561-9]

National Oil and Hazardous Substances Contingency Plan; National Priorities List Update

AGENCY: Environmental Protection Agency.

ACTION: Notice of deletion of the Sand Springs Petrochemical Complex Superfund Site from the National Priorities List (NPL).

SUMMARY: The Environmental Protection Agency (EPA) announces the deletion of the Sand Springs Petrochemical Complex Superfund Site in Oklahoma from the National Priorities List (NPL). The NPL is appendix B of 40 CFR part 300, which is the National Oil and Hazardous Substances Contingency Plan (NCP), which EPA promulgated pursuant to section 105 of the Comprehensive Environmental Response, Compensation, and Liability Act of 1980 (CERCLA), as amended. This action is being taken by EPA and the State of Oklahoma, because it has been determined that Responsible Parties have implemented all appropriate response actions required. Moreover, EPA and the State of Oklahoma have determined that remedial actions conducted at the site to date remain protective of public health, welfare, and the environment.

EFFECTIVE DATE: March 17, 2000.

FOR FURTHER INFORMATION CONTACT: Shawn Ghose, M.S., P.E. at (214) 665-6782, Remedial Project Manager, (6SF-AP), Superfund Division, U.S. EPA—Region 6, 1445 Ross Avenue, Dallas, TX 75202. Information on the site is available at the local information repository located at: Page Memorial Library, 6 East Broadway, Sand Springs, Oklahoma 74063. Requests for comprehensive copies of documents should be directed formally to the Regional Docket Office. The Region 6 Public Docket is located at EPA Region 6 Library (6MD-II), 12th Floor, 1445 Ross Avenue, Dallas, Texas 75202-2733, (214) 665-6424 or 665-6427.

SUPPLEMENTARY INFORMATION: The site to be deleted from the NPL is Sand Springs Petrochemical Complex located at Sand Springs, Oklahoma. A Notice of Intent to Delete for this site was published August 2, 1999 (64 FR 41875). The closing date for comments on the Notice of Intent to Delete was extended to October 25, 1999. EPA received no comments and, therefore, no Responsiveness Summary was prepared.

The EPA identifies sites which appear to present a significant risk to public health, welfare, or the environment and maintains the NPL as the list of those sites. Deletion of a site from the NPL does not affect responsible party liability or impede agency efforts to recover costs associated with response efforts.

List of Subjects 40 CFR Part 300

Environmental protection, Air pollution control, Chemicals, Hazardous substances, Hazardous waste, Intergovernmental relations, Penalties, Reporting and recordkeeping requirements, Superfund, Water pollution control, Water supply.

Gregg A. Cooke,
Regional Administrator, Region VI.

40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp.; p. 351; E.O. 12580, 52 FR 2923, 3 CFR, 1987 Comp.; p. 193.

Appendix B—[Amended]

2. Table 1 of Appendix B to part 300 is amended by removing the site Sand Springs Petrochemical Complex, Sand Springs, Oklahoma.

[FR Doc. 00-6712 Filed 3-16-00; 8:45 am]

BILLING CODE 6560-50-U